DEPARTMENT OF DEFENSE

Department of the Navy

32 CFR Part 727

[Docket ID: USN-2019-HA-0008]

RIN 0703-AB08

Legal Assistance

AGENCY: Department of the Navy, Department of Defense.

ACTION: Final rule.

SUMMARY: This final rule removes Department of the Navy (DON) regulations concerning Legal Assistance. Removal is appropriate because the regulation does not affect how the public engages the DON regarding legal assistance and does not place obligations on the public. The Judge Advocate General (JAG) of the Navy and the Staff Judge Advocate (SJA) to the Commandant of the United States Marine Corps issue internal instructions that establish administration of the DON legal assistance programs within the parameters established by many controlling statutes. These internal instructions do not require publication in the Code of Federal Regulations.

DATES: This rule is effective on August 2, 2019.

FOR FURTHER INFORMATION CONTACT: LT John M. Schwietz at 202-685-4641.

SUPPLEMENTARY INFORMATION: This rule, last updated on April 16, 2004 (69 FR 20541), provides internal guidelines for the operation of the legal assistance program. Current internal guidelines are published in JAG Instruction 5801.2B, “Navy Legal Assistance Program” (available at http://www.jag.navy.mil/library/instructions/5801_2b.pdf).

It has been determined that publication of this CFR part removal for public comment is impracticable, unnecessary, and contrary to public interest since it is based on removing internal procedures. Additionally, the ultimate statutory authority governing the delivery of military legal assistance services remains in effect at 10 U.S.C. 1044.

This rule is not significant under Executive Order (E.O.) 12866, “Regulatory Planning and Review.” Therefore, E.O. 13771, “Reducing Regulation and Controlling Regulatory Costs” does not apply.

List of Subjects in 32 CFR Part 727

Legal Services, Military Law, Military Personnel.

PART 727—[REMOVED]

Accordingly, by the authority of 5 U.S.C. 301, 32 CFR part 727 is removed.

Dated: July 30, 2019.
Meredith Steingold Werner,
Commander, Judge Advocate General's Corps, U.S. Navy, Federal Register Liaison Officer.

[FR Doc. 2019-16560 Filed 8-1-19; 8:45 am]

BILLING CODE 3810-FF-P